DEPARTMENT OF THE INTERIOR

Fish and Wildlife Service

Choctaw Creek National Wildlife Refuge

AGENCY: Fish and Wildlife Service, Interior.

ACTION: Notice of availability of the Final Comprehensive Conservation Plan and Finding of No Significant Impact for Choctaw National Wildlife Refuge in Choctaw County, Alabama.

SUMMARY: The Fish and Wildlife Service announces that a Final Comprehensive Conservation Plan and Finding of No Significant Impact for Choctaw National Wildlife Refuge are available for distribution. The plan was prepared pursuant to the National Wildlife Refuge System Improvement Act of 1997, and in accordance with the National Environmental Policy Act of 1969. It describes how the refuge will be managed for the next 15 years.

ADDRESSES: A copy of the plan may be obtained by contacting Robbie Dailey, Refuge Manager, Choctaw National Wildlife Refuge, P.O. Box 808, Jackson, Alabama 36545; telephone: 251/246-3583; fax: 251/246-5414. The plan may also be accessed and downloaded from the Service's Web site http://southeast.fws.gov/planning/.

SUPPLEMENTARY INFORMATION: The availability of the draft comprehensive conservation plan and environmental assessment for a 45-day review period was announced in the Federal Register on January 24, 2006 (71 FR 3878). The Service analyzed four alternatives for managing the refuge and selected alternative D as the preferred alternative. This alternative will promote greater protection for the refuge's fish, wildlife, and habitats and will emphasize wildlife-dependent recreational opportunities for visitors. Hunting and fishing will continue with greater emphasis on increasing opportunities and enhancing the quality of the experience. Education and interpretation will be promoted with regular programs and partnerships with local schools. Wildlife observation and photography opportunities will be expanded, including a trans-refuge birding trail and an observation tower, highlighting refuge management programs and unique wildlife habitats.

Research studies on the refuge will be fostered and partnerships developed with other agencies and universities, providing needed resources and experiment sites while meeting the needs of the refuge's wildlife and habitat management programs. Research will also benefit conservation efforts throughout southwest alabama to conserve, enhance, restore, and manage native habitat. New surveys on birds, reptiles, and amphibians will be initiated to develop baseline information.

Additional staff will include management and biological personnel. An assistant refuge manager and a wildlife biologist will be added to accomplish objectives for establishing baseline data on refuge resources, managing habitats, providing opportunities and facilities for wildlife observation and photography, providing educational programs that promote a greater understanding of the refuge resources, and protecting natural and cultural resources and refuge visitors.

Public comments were requested, considered, and incorporated throughout the planning process in numerous ways. Public outreach included an open house, public meeting, technical workgroups, planning update mailings, and Federal Register notices. During the draft comprehensive conservation plan/environmental assessment comment period, the Service received several comments, which were incorporated, when appropriate, and responded to in the final comprehensive conservation plan.

Authority: This notice is published under the authority of the National Wildlife Refuge System Improvement Act of 1997, Public Law 105-57.

Dated: May 10, 2006.
Cynthia K. Dohner,
Acting Regional Director.

[FR Doc. 06-7245 Filed 8-29-06; 8:45 am]

BILLING CODE 4310-55-M